DEPARTMENT OF LABOR

Employment and Training Administration

[TA-W-56,915]

The Lubrizol Corporation, Mountaintop Manufacturing, Mountaintop, PA; Notice of Termination of Investigation

Pursuant to Section 221 of the Trade Act of 1974, as amended, an investigation was initiated on April 7, 2005 in response to a petition filed on behalf of workers at The Lubrizol Corporation, Mountaintop Manufacturing, Mountaintop, Pennsylvania.

The petitioner has requested that the petition be withdrawn. Consequently, the investigation has been terminated.

Signed at Washington, DC, this 14th day of April, 2005.
Linda G. Poole,
Certifying Officer, Division of Trade Adjustment Assistance.

[FR Doc. E5-2123 Filed 5-2-05; 8:45 am]

BILLING CODE 4510-30-P